DEPARTMENT OF THE INTERIOR

National Park Service

Meeting: The Christmas Pageant of Peace

The National Park Service is seeking public comments and suggestions on the planning of the 2000 Christmas Pageant of Peace, which opens on December 11, 2000, on the Ellipse (President's Park), south of the White House. The meeting will be held at 11 a.m. on Friday, November 17, in room 234 of the National Capital Region Building, at 1100 Ohio Drive, SW, Washington, DC (East Potomac Park).

Persons who would like to comment at the meeting should notify the National Park Service by November 15 by calling the White House Visitor Center weekdays between 9 a.m. and 4 p.m. at (202) 208-1631. Written comments may be sent to the Park Manager, White House Visitor Center, 1100 Ohio Drive, SW, Washington, DC 20252, and can be accepted until November 14.

Dated: November 1, 2000.
Stan E. Lock,
Deputy Director, White House Liaison.

[FR Doc. 00-28574 Filed 11-6-00; 8:45 am]

BILLING CODE 4310-70-M